DEPARTMENT OF ENERGY

Federal Energy Regulatory Commission

[Project No. 8015-016]

N.E.W. Hydro, Inc., N.E.W. Hydro, LLC; Notice of Transfer of Exemption

1. On February 1, 2024 and supplemented on February 11, 2025, N.E.W. Hydro, Inc., exemptee for the Shawano Paper Mills Dam Hydroelectric Project No. 8015, filed a letter notifying the Commission that the project was transferred from N.E.W. Hydro, Inc. to N.E.W. Hydro, LLC. The exemption from licensing was originally issued on March 27, 1985.¹ The project is located on the Wolf River in Shawano County, Wisconsin. The transfer of an exemption does not require Commission approval.

¹ Order Granting Exemption from Licensing of a Small Hydroelectric Project of 5 Megawatts or Less (30 FERC ¶ 62,344).

2. On March 14, 2012, N.E.W. Hydro, Inc. changed its corporate form into a limited liability company. A change in an exemptee's corporate structure necessitates a transfer of the exemption. Therefore, by this notice, Commission staff are acknowledging the transfer of the exemption from N.E.W. Hydro, Inc. to N.E.W. Hydro, LLC.

3. N.E.W. Hydro, LLC is now the exemptee of the Shawano Paper Mills Dam Hydroelectric Project No. 8015. All correspondence regarding the project should be directed to Ms. Jody Smet, Eagle Creek Renewable Energy, LLC, 7315 Wisconsin Avenue, Suite 1100W, Bethesda, MD 20814, Email: jody.smet@eaglecreekre.com.

Dated: July 10, 2025.
Carlos D. Clay,
Deputy Secretary.

[FR Doc. 2025-13231 Filed 7-14-25; 8:45 am]

BILLING CODE 6717-01-P